DEPARTMENT OF ENERGY

Federal Energy Regulatory Commission

[Project No. 3102-025]

Jason and Carol Victoria Presley; Notice of Intent To File Subsequent License Application, and Request To Waive Pre-Filing Requirements

a. Type of Filing: Notice of Intent To File Subsequent License Application and Request To Waive Pre-Filing Requirements.

b. Project No.: 3102-025.

c. Dated Filed: September 12, 2017.

d. Submitted By: Jason and Carol Victoria Presley.

e. Name of Project: High Shoals Project.

f. Location: On the Apalachee River in Walton, Morgan, and Oconee Counties, Georgia. The project does not occupy federal lands.

g. Filed Pursuant to: Part 5 of the Commission's regulations. 18. CFR pt. 5 (2017).

h. Applicant Contact: Mr. Jason Presley and Ms. Carol Victoria Presley, 110 Frazier Hill Road, Bishop, GA 30621, (706) 769-8293, email: jason@presley.us, victoria@presley.us.

i. FERC Contact: Monte TerHaar at (202) 502-6035 or email at monte.terhaar@ferc.gov.

j. On September 12, 2017, Jason and Carol Victoria Presley (licensee) filed a Notice of Intent to file a subsequent license application (Notice of Intent), and a request that the Commission waive certain deadlines, as required by the Commission's regulations, for filing the Notice of Intent, Pre-Application Document (PAD), and request to use the Traditional Licensing Process (TLP).¹ The licensee requests waiver of the Commission's regulations to allow for additional time to: (1) Consult with agencies and stakeholders to support a request to use the TLP; (2) compile project documents for public inspection; and (3) submit a PAD and request to use the TLP. The licensee states that it plans to submit its PAD and request to use the TLP by October 31, 2017.

¹ The licensee requests that sections 5.2, 5.3, 5.5, 5.6, 16.6, and 16.7 of the Commission's regulations be waived. 18 CFR 5.2, 5.3, 5.5, 5.6, 16.6, 16.7 (2017).

k. The licensee requests a waiver of the Commission's regulatory deadlines for the Notice of Intent, PAD, and Request to Use the TLP because of exigent circumstances relating to the death of the prior licensee and the subsequent transfer of license to current licensee.²

² Gaynor L. Bracewell and John and Carol Victoria Presley, 159 FERC 62,314 (2017).

l. With this notice we are soliciting comments on the licensee's Notice of Intent and request to waive certain pre-filing requirements. All comments should be sent to the address in paragraph n below. Any individual or entity interested in submitting comments must do so within 30 days from the date that the Commission issues this notice.

m. The Notice of Intent, waiver request, and associated filings are available for review at the Commission in the Public Reference Room or may be viewed on the Commission's Web site (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph h.

Register online at http://www.ferc.gov/docs-filing/esubscription.asp to be notified via email of new filings and issuances related to this or other pending projects. For assistance, contact FERC Online Support.

n. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE., Washington, DC 20426. The first page of any filing should include docket number P-3102-025. All filings with the Commission must bear the appropriate heading: Comments on Notice of Intent.

Dated: October 5, 2017.
Kimberly D. Bose,
Secretary.

[FR Doc. 2017-22006 Filed 10-11-17; 8:45 am]

BILLING CODE 6717-01-P